DEPARTMENT OF THE INTERIOR

Bureau of Land Management

[BLM_OR_FRN_MO4500178813]

Second Call for Nominations for the San Juan Islands National Monument Advisory Committee

AGENCY: Bureau of Land Management, Interior.

ACTION: Second call for nominations to San Juan Islands National Monument Advisory Committee.

SUMMARY: The purpose of this notice is to request public nominations for the Bureau of Land Management's (BLM) San Juan Islands National Monument Advisory Committee (MAC). The Council provides advice and recommendations to the BLM on land use planning and management of the public land resources located within the BLM's San Juan Islands National Monument, located in the Spokane District.

DATES: All nominations must be received no later than June 21, 2024.

ADDRESSES: Nominations and completed applications should be sent to the BLM office listed in the FOR FURTHER INFORMATION CONTACT section of this notice.

FOR FURTHER INFORMATION CONTACT: Travis Edwards BLM Spokane District Office, 1103 N Fancher, Spokane Valley, WA 99212; telephone: (509) 536-1297; or email: tedwards@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Federal Land Policy and Management Act (FLPMA) directs the Secretary of the Interior to involve the public in planning and issues related to management of lands administered by the BLM. Section 309 of FLPMA, as amended (43 U.S.C. 1739), directs the Secretary to establish 10- to 15-member citizen-based advisory committees that are consistent with the Federal Advisory Committee Act (FACA). As required by FACA, MAC membership must be balanced and representative of the various interests concerned with the management of the public lands. The BLM's regulations governing resource advisory councils are found at 43 CFR 1784.

The MAC includes thirteen representative members to be appointed by the Secretary of the Interior as follows:

(a) One member representing archeological, cultural, and heritage interests;

(b) One member representing wildlife and ecological interests;

(c) One member representing the interests of a nonprofit organization whose mission is conservation and/or management of natural resources, land, or water;

(d) One member representing natural resource management or natural sciences interests;

(e) One member representing recreation and tourism interests;

(f) One member representing local youth, education, and interpretation interests;

(g) Two members that have significant cultural or historic connections to, and knowledge about, the landscape, archeological sites, or cultural sites connected to the Monument;

(h) One member who holds State, county, or local elected office;

(i) One member representing conservation and/or management of natural resources, land, or water interests;

(j) One member representing local interests that is a resident of Lopez Island; and

(k) One member of the public-at-large.

Members will be appointed to the MAC to serve three-year staggered terms.

Nominating Potential Members: Nominations should include a resume providing an adequate description of the nominee's qualifications, including information that would enable the Department of the Interior to make an informed decision regarding the membership requirements of the MAC and permit the Department to contact a potential member. Nominees are strongly encouraged to include supporting letters from employers, associations, professional organizations, and/or other organizations that indicate support by a meaningful constituency for the nominee. Please indicate any BLM permits, leases, or licenses that you hold personally or are held by your employer.

Members of the MAC serve without compensation. However, while away from their homes or regular places of business, members engaged in MAC business may be allowed travel expenses, including per diem in lieu of subsistence, as authorized by 5 U.S.C. 5703, in the same manner as persons employed intermittently in Federal Government service.

Simultaneous with this notice, the BLM will issue a press releases providing additional information for submitting nominations.

Before including any address, phone number, email address, or other personal identifying information in the application, nominees should be aware this information may be made publicly available at any time. While the nominee may ask to withhold the personal identifying information from public review, the BLM cannot guarantee that it will be able to do so.

Authority: 43 CFR 1784.4-1.

Stephen Small,
District Manager, Spokane District.

[FR Doc. 2024-09950 Filed 5-6-24; 8:45 am]

BILLING CODE 4331-24-P